DEPARTMENT OF TRANSPORTATION

National Highway Traffic Safety Administration

[Docket No. NHTSA-2012-0003; Notice 1]

Spartan Motors Chassis, Inc., Receipt of Petition for Decision of Inconsequential Noncompliance

AGENCY: National Highway Traffic Safety Administration, DOT.

ACTION: Receipt of Petition.

SUMMARY: Spartan Motors Chassis, Inc.,¹ (Spartan), has determined that model year 2011 and 2012 model MM, K2, K3, and SU incomplete vehicles manufactured between January 28, 2011 and June 28, 2011, do not fully comply with paragraph S5.1.4 of Federal Motor Vehicle Safety Standard (FMVSS) No. 121, Air Brake Systems. Spartan has filed an appropriate report pursuant to 49 CFR part 573, Defect and Noncompliance Responsibility and Reports (dated July 13, 2011).

¹ Spartan Motors Chassis, Inc., is a manufacturer of incomplete vehicles and is registered under the laws of the state of Michigan.

Pursuant to 49 U.S.C. 30118(d) and 30120(h) (see implementing rule at 49 CFR part 556), Spartan has petitioned for an exemption from the notification and remedy requirements of 49 U.S.C. chapter 301 on the basis that this noncompliance is inconsequential to motor vehicle safety.

This notice of receipt of Spartan's petition is published under 49 U.S.C. 30118 and 30120 and does not represent any agency decision or other exercise of judgment concerning the merits of the petition.

Affected are approximately 312 model year 2011 and 2012 model MM, K2, K3, and SU incomplete vehicles manufactured between January 28, 2011 and June 28, 2011.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the subject 312 ² model year 2011 and 2012 incomplete vehicles that Spartan no longer controlled at the time it determined that the noncompliance existed.

² Spartan's petition, which was filed under 49 CFR Part 556, requests an agency decision to exempt Spartan as a vehicle manufacturer from the notification and recall responsibilities of 49 CFR part 573 for 312 of the affected vehicles. However, a decision on this petition cannot relieve vehicle distributors and dealers of the prohibitions on the sale, offer for sale, introduction or delivery for introduction into interstate commerce of the noncompliant vehicles under their control after Spartan notified them that the subject noncompliance existed.

Paragraph S5.1 of FMVSS No. 121 requires in pertinent part:

S5.1 Required equipment for trucks and buses. Each truck and bus shall have the following equipment: * * *

S5.1.4 Pressure gauge. A pressure gauge in each service brake system, readily visible to a person seated in the normal driving position, that indicates the service reservoir system air pressure. The accuracy of the gauge shall be within plus or minus 7 percent of the compressor cut-out pressure. * * *

Spartan explains that the noncompliance is that the accuracy of the air gauges used in the air brake systems on the subject vehicles do not meet the accuracy requirements identified in FMVSS No. S5.1.4.

Spartan explains that the air brake systems operate as designed and meet all other applicable requirements of FMVSS No. 121. In this case, the operator may not be able to detect, by way of the air gauges, the variation between the physical cut out pressure of the air compressor versus what is shown on the gauge. Air pressure within the air systems is controlled by an air governor that is independent of the gauges therefore rendering the gauges as only an indicator to the operator.

Spartan additionally states that it has corrected the gauge calibration so that future production will not contain the subject noncompliance.

In summation, Spartan believes that the described noncompliance of its vehicles is inconsequential to motor vehicle safety, and that its petition, to exempt from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to U.S. Department of Transportation, Docket Operations, M-30, West Building Ground Floor, Room W12-140, 1200 New Jersey Avenue SE., Washington, DC 20590. The Docket Section is open on weekdays from 10 am to 5 pm except Federal Holidays.

c. Electronically: by logging onto the Federal Docket Management System (FDMS) Web site at http://www.regulations.gov/. Follow the online instructions for submitting comments. Comments may also be faxed to 1-(202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: March 8, 2012.

Authority: 49 U.S.C. 30118, 30120: delegations of authority at CFR 1.50 and 501.8.

Issued on: January 30, 2012.
Claude H. Harris,
Director, Office of Vehicle Safety Compliance.

[FR Doc. 2012-2664 Filed 2-6-12; 8:45 am]

BILLING CODE 4910-59-P